INTERNATIONAL TRADE COMMISSION

[USITC SE-02-011]

Sunshine Act Meeting

Agency Holding the Meeting: United States International Trade Commission.

Time and Date: April 29, 2002 at 2 p.m.

Place: Room 101, 500 E Street SW., Washington, DC 20436, Telephone: (202) 205-2000.

Status: Open to the public.

Matters To Be Considered:

1. Agenda for future meeting: none.

2. Minutes.

3. Ratification List.

4. Inv. No. 731-TA-989 (Preliminary) (Ball Bearings from China)—briefing and vote. (The Commission is currently scheduled to transmit its determination to the Secretary of Commerce on April 29, 2002; Commissioners' opinion are currently scheduled to be transmitted to the Secretary of Commerce on or before May 6, 2002.)

5. Inv. Nos. 731-TQ-929-931 (Final) (Silicomanganese from India, Kazakhstan, and Venezuela)—briefing and vote. (The Commission is currently scheduled to transmit its determination and Commissioners' opinions to the Secretary of Commerce on May 16, 2002.)

6. Outstanding action jackets: none.

In accordance with Commission policy, subject matter listed above, not disposed of at the scheduled meeting, may be carried over to the agenda of the following meeting.

By order of the Commission:
Issued: April 16, 2002.
Marilyn R. Abbott,
Secretary.

[FR Doc. 02-9722 Filed 4-17-02; 10:06 am]

BILLING CODE 7020-02-M